DEPARTMENT OF AGRICULTURE

U.S. Codex Office

[Docket No. USDA-2022-XXXX]

International Standard-Setting Activities

AGENCY: Trade and Foreign Agricultural Affairs (TFAA), USDA.

ACTION: Notice.

SUMMARY: This notice informs the public of the sanitary and phytosanitary (SPS) standard-setting activities of the Codex Alimentarius (Codex), in accordance with section 491 of the Trade Agreements Act of 1979, as amended, and the Uruguay Round Agreements Act. This notice also provides a list of other standard-setting activities of Codex, including commodity standards, guidelines, codes of practice, and revised texts. This notice, which covers Codex activities during the time periods from June 21, 2021 to May 31, 2022 and June 1, 2022 to May 31, 2023, seeks comments on standards under consideration and recommendations for new standards.

ADDRESSES: The U.S. Codex Office (USCO) invites interested persons to submit their comments on this notice. Comments may be submitted by one of the following methods:

• Federal e-Rulemaking Portal: This website provides the ability to type short comments directly into the comment field on this web page or attach a file for lengthier comments. Go to http://www.regulations.gov. Follow the on-line instructions at the website for submitting comments.

• Mail: Send to Docket Clerk, U.S. Department of Agriculture, Trade and Foreign Agricultural Affairs, 1400 Independence Avenue SW, Mailstop S4861, Washington, DC 20250-3700.

• Hand- or courier-delivered submittals: Deliver to 1400 Independence Avenue SW, Room 4861, Washington, DC 20250-3700.

Instructions: All items submitted by mail or email are to include the Agency name and docket number USDA-2022-XXXX. Comments received in response to this docket will be made available for public inspection and posted without change, including any personal information to http://www.regulations.gov.

Please state that your comments refer to Codex. If your comments relate to specific Codex committees, please identify the committee(s) in your comments and submit a copy of your comments to the delegate for that committee.

Docket: For access to background documents or comments received, call (202) 205-7760 to schedule an appointment.

FOR FURTHER INFORMATION CONTACT: Ms. Mary Frances Lowe, United States Manager for Codex Alimentarius, U.S. Department of Agriculture, Office of the Under Secretary for Trade and Foreign Agricultural Affairs, U.S. Codex Office, 1400 Independence Avenue SW, Room 4861, Washington, DC 20250-3700; Telephone: +1 (202) 205-7760; Email: uscodex@usda.gov.

For information pertaining to committees, contact the delegate for that committee. A complete list of U.S. delegates and alternate delegates is accessible via the internet at: https://www.usda.gov/sites/default/files/documents/us-codex-program-officials.pdf. Documents pertaining to Codex and specific committee agendas are accessible via the internet at http://www.fao.org/fao-who-codexalimentarius/meetings/en/. The U.S. Codex Office (USCO) also maintains a website at http://www.usda.gov/codex, a link that also offers an email subscription service providing access to information related to Codex. Customers can add or delete their subscription themselves and have the option to password protect their accounts.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements Act amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are the Codex Alimentarius (Codex), the World Organisation for Animal Health (OIE), and the International Plant Protection Convention (IPPC). The President, pursuant to Proclamation No. 6780 of March 23, 1995, (60 FR 15845), designated the U.S. Department of Agriculture as the agency responsible for informing the public of the SPS standard-setting activities of each international standard-setting organization. The Secretary of Agriculture has delegated to the Trade and Foreign Agricultural Affairs Mission Area the responsibility to inform the public of the SPS standard-setting activities of Codex. The Trade and Foreign Agricultural Affairs Mission Area has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the USCO publishes this notice in the Federal Register annually. Attachment 1 (Sanitary and Phytosanitary Activities of Codex) sets forth the following information:

1. The SPS standards under consideration or planned for consideration; and

2. For each SPS standard specified:

a. A description of the consideration or planned consideration of the standard

b. Whether the United States is participating or plans to participate in the consideration of the standard

c. The agenda for United States participation, if any; and

d. The agency responsible for representing the United States with respect to the standard.

To obtain copies of the standards listed in Attachment 1, please contact the U.S. delegate or the U.S. Codex Office.

This notice also solicits public comment on standards that are currently under consideration or planned for consideration and recommendations for new standards. The U.S. delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex committees and will disseminate information regarding U.S. delegation activities to interested parties. This information will include the status of each agenda item; the U.S. Government's position or preliminary position on the agenda items; and the time and place of planning meetings and debriefing meetings following the Codex committee sessions. In addition, the USCO makes much of the same information available through its web page at http://www.usda.gov/codex. If you would like to access or receive information about specific committees, please visit the web page or notify the appropriate U.S. delegate or the U.S. Codex Office, Room 4861, 1400 Independence Avenue SW, Washington, DC 20250-3700 (uscodex@usda.gov).

The information provided in Attachment 1 describes the status of Codex standard-setting activities by the Codex committees for the time periods from June 21, 2021 to May 31, 2022 and June 1, 2022 to May 31, 2023. A list of forthcoming Codex sessions may be found at: http://www.codexalimentarius.org/meetings-reports/en/.

Additional Public Notification

Public awareness of all segments of rulemaking and policy development is important. Consequently, the USCO will announce this Federal Register publication on-line through the U.S. Codex web page located at: https://www.federalregister.gov/agencies/us-codex-office.

Done at Washington, DC.
Mary Frances Lowe,
U.S. Manager for Codex Alimentarius.

Attachment 1

Sanitary and Phytosanitary Activities of Codex

Codex Alimentarius Commission and Executive Committee

The Codex Alimentarius Commission (Commission or CAC) convened its 44th Session (CAC44) virtually from November 8-15 and 17-18, 2021, with report adoption taking place on December 14, 2021. The relevant document is REP21/CAC. The actions taken by the Commission at CAC44 (e.g., adoption, revocation, approval of new work, discontinuation of work, amendments, etc.) are described below under the respective Codex Committees/Task Force.

The Commission is scheduled to convene for its 45th Session (CAC45) on November 21-25, 2022, with report adoption taking place on December 13, 2022. At its 45th Session, the Commission will consider adopting standards recommended by committees at Step 8 or ⅝ (final adoption) and advance the work of committees by adopting draft standards at Step 5 (for further comment and consideration by the relevant committee). The Commission will also consider revocation of Codex texts; proposals for new work; discontinuation of work; amendments to Codex standards and related texts; and matters arising from the Reports of the Commission, the Executive Committee, and subsidiary bodies. Although the agenda for the 45th Session is not yet available, it is expected that the Commission will also consider Codex budgetary and financial matters; FAO/WHO scientific support to Codex (activities, budgetary and financial matters); matters arising from FAO/WHO; reports of side events; election of the chairperson and vice-chairpersons and members of the Executive Committee elected on a geographical basis; designation of countries responsible for appointing the chairpersons of Codex subsidiary bodies; any other business; and adoption of the report.

The Executive Committee (CCEXEC) convened its 81st Session (CCEXEC81) virtually from October 28 to November 5, 2021. The relevant document is REP21/EXEC2. In addition to making recommendations to CAC44 on the work of Codex Committees/Task Forces, CCEXEC81 discussed the impact of the pandemic on the activities of Codex Alimentarius; the Codex Strategic Plan 2020-2025; and the application of the Statements of Principle concerning the Role of Science in the Codex decision-making process and the extent to which other factors are taken into account.

Before the CAC45, CCEXEC is scheduled to convene twice virtually, due to COVID-19 related issues. The 82nd Session of CCEXEC is scheduled to convene June 20-30, 2022 and its 83rd Session is scheduled to convene November 14-18, 2022. CCEXEC is composed of the Commission chairperson; vice-chairpersons; seven members elected by the Commission from each of the following geographic regions: Africa, Asia, Europe, Latin America and the Caribbean, Near East, North America, and South-West Pacific; and regional coordinators from the six regional coordinating committees. The United States will participate as an advisor to Canada, the member elected on a geographical basis for North America.

At its 82nd Session, the Executive Committee will report on the work of the sub-committee on the application of the Statements of Principle concerning the role of science, and the sub-committee on new food sources and production systems. The Executive Committee will also consider the following agenda items: model for future Codex work, applications from international non-governmental organizations for observer status in Codex, review of international non-governmental organizations with observer status in Codex, Codex Strategic Plan 2020-2025, and the 60th anniversary of the Codex Alimentarius Commission: 1963-2023. The Executive Committee agenda for the 83rd Session is not yet available.

Responsible Agency: USDA/TFAA/USCO.

U.S. Participation: Yes.

Codex Committee on Contaminants in Foods

The Codex Committee on Contaminants in Foods (CCCF) establishes or endorses permitted maximum levels (MLs)or guideline levels (GLs) for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates standards or codes of practice for related subjects; and considers other matters assigned to it by the Commission in relation to contaminants and naturally occurring toxicants in food and feed.

The Committee had the following items which were considered by the 44th Session of the Codex Alimentarius Commission in November 2021.

Adopted at Step 8 or Step ⅝ (final adoption):

• MLs for cadmium in chocolates containing or declaring <30% cocoa solid on a dry matter basis

• MLs for cadmium in chocolates containing or declaring ≥30% to <50% total cocoa solid on a dry matter basis

• Revision of the Code of Practice for the Prevention and Reduction of Lead Contamination in Foods (CXS 56-2004)

• Amendment to extend the MLs for lead in fruit juices and grape juice in the General Standard for Contaminants in Food and Feed (CXS 193-1995) to cover infants and young children

Approved as new work:

• MLs for methylmercury in orange roughy and pink cusk eel

• Code of Practice for the prevention and reduction of mycotoxin contamination in cassava and cassava-based products

The Committee convened its 15th Session virtually from May 9-13, 2022, with report adoption taking place on May 24, 2022. The relevant document is REP22/CF.

The Committee has the following items that will be considered by the 45th Session of the Commission.

To be considered for final adoption at Step 8 and Step 5/8:

• MLs for cadmium in cocoa powder (100% total cocoa solids on a dry matter basis)

• Code of practice for the prevention and reduction of cadmium contamination in cocoa beans

• MLs for methylmercury in certain fish species and associated sampling plan (orange roughy and pink cusk eel) MLs for lead in certain food categories (cereal-based products for infants and young children, white sugar, corn and maple syrups, honey, and sugar-based candies)

• MLs for total aflatoxins in maize grain, destined for further processing; flour meal, semolina and flakes derived from maize; husked rice; polished rice; sorghum grain, destined for further processing; cereal-based food for infants and young children (excluding foods for food aid programs); and cereal-based food for older infants and young children for food aid programs

The 16th Session of the CCCF (CCCF16) is scheduled to convene April 17-21, 2023. The CCCF16 agenda is currently unavailable, and we are unable to determine if CCCF16 will recommend adoptions or approvals at the 46th Session of The Codex Alimentarius Commission (CAC46).

The Committee is expected to continue working on:

• MLs for lead in remaining certain food categories (ready-to-eat meals for infants and young children, culinary herbs, dried spices, brown and raw sugars)

• Sampling plans for methylmercury in certain fish species and associated sampling plan (orange roughy and pink cusk eel)

• MLs for total aflatoxins in ready-to-eat peanuts and associated sampling plan

• MLs for total aflatoxins and ochratoxin A in nutmeg, dried chili and paprika, ginger, pepper, and turmeric and associated sampling plans

• Code of practice for prevention and reduction of mycotoxin contamination in cassava and cassava-based products

• Forward work plan for CCCF, including:

○ Review of staple food-contaminant combinations for future work of CCCF

• Review of Codex standards for contaminants

• Follow-up work to the outcomes of JECFA evaluations

• Priority list of contaminants for evaluation by JECFA

Responsible Agencies: HHS/FDA; USDA/Food Safety and Inspection Service (FSIS).

U.S. Participation: Yes.

Codex Committee on Fats and Oils

The Codex Committee on Fats and Oils (CCFO) is responsible for elaborating worldwide standards for fats and oils of animal, vegetable, and marine origin, including margarine and olive oil.

The 27th Session of the CCFO met virtually on October 18-22, 2021, with report adoption taking place on October 26, 2021. The relevant document is REP22/FO.

The Committee has the following items that will be considered by the 45th Session of the Commission.

To be considered for final adoption at Step 5/8:

• Proposed draft revision to the Standard for Named Vegetable Oils (CXS 210-1999): Essential composition of Sunflower seed oils

To be considered for approval as new work:

• Amendment/revision to the Standard for Named Vegetable Oils (CXS 210-1999) to include Camellia seed oil; Sacha inchi oil; High oleic acid soya bean oil

• Amendment/revision to the Standard for Fish Oils (CXS 329-2017) to include Calanus oil

The Committee is expected to continue working on:

• Proposed draft revision to the Standard for Named Vegetable Oils (CXS 210-1999): avocado oil

• Editorial amendments/changes to the Code of Practice for the Storage and Transport of Edible Fats and Oils in Bulk (CXC 36-1987): Appendix 2

• Mechanisms for revising the Standard for Milk Fat Products (CXS 280-1973)

Responsible Agencies: HHS/FDA/Center for Food Safety and Applied Nutrition (CFSAN); USDA/Agricultural Research Service (ARS).

U.S. Participation: Yes.

Codex Committee on Fish and Fishery Products

The Committee on Fish and Fishery Products (CCFFP) is responsible for elaborating standards for fresh, frozen, and otherwise processed fish, crustaceans, and mollusks. The 35th session of CCFFP is working by correspondence and the Committee is expected to complete their work by October 1, 2022.

The Committee is working by correspondence on:

• The Standard for Canned Sardines and Sardine-Type Products (CXS 94-1981) to consider inclusion of the fish species S. lemuru (Bali Sardinella) in the list of Sardinella species under section 2.1.

Responsible Agencies: HHS/FDA; DOC/NOAA/National Marine Fisheries Service (NMFS).

U.S. Participation: Yes.

Codex Committee on Food Additives

The Codex Committee on Food Additives (CCFA) establishes or endorses acceptable MLs for individual food additives; prepares a priority list of food additives for risk assessment by the JECFA; assigns functional classes to individual food additives; recommends specifications of identity and purity for food additives for adoption by the Codex Alimentarius Commission; considers methods of analysis for the determination of additives in food; and considers and elaborates standards or codes of practice for related subjects such as the labeling of food additives when sold as such.

The Committee convened its 52nd Session virtually from September 1-7, 2021, with report adoption taking place on September 10, 2021. The relevant document is REP21/FA.

The Committee had the following items which were considered by the 44th Session of the Codex Alimentarius Commission in November 2021.

Adopted at Step 8 (final adoption):

• Specifications for the Identity and Purity of Food Additives

• Revisions to adopted provisions of the General Standard for Food Additives (GSFA) (CXS 192-1995)

• Revision of the Class Names and the International Numbering System for Food Additives (CXG 36-1989)

• Changes related to the group header STEVIOL GLYCOSIDES in the GSFA (CXS 192-1995)

• Revised provisions of the GSFA in relation to the amendments to title and food category number for CXS 283-1978 in Annex C of the GSFA (CXS 192-1995)

• Revised food-additive provisions of the GSFA in relation to the partial alignment of CXS 249-2006, CXS 273-1968, CXS 275-1973 and CXS 288-1978 to include tamarind seed polysaccharide (INS 437)

• Revised food-additive provisions of the GSFA in relation to the linked entry for Food Category (FC) 12.5 in the References to Commodity Standards for GSFA Table 3 Additives in the Annex to Table 3

• Revised provisions of the GSFA for sweeteners in different food categories (CXS 192-1995)

• Revised food-additive sections of nine standards for milk and milk products, i.e., Group Standards for Cheeses in Brine (CXS 208-1999); Unripened Cheese including Fresh Cheese (CXS 221-2001); Standards for a Blend of Evaporated Skimmed Milk and Vegetable Fat (CXS 250-2006); a Blend of Skimmed Milk and Vegetable Fat in Powdered Form (CXS 251-2006); a Blend of Sweetened Condensed Skimmed Milk and Vegetable Fat (CXS 252-2006); Standards for Cottage Cheese (CXS 273-1968); Cream Cheese (CXS 275-1973); Extra Hard Grating Cheese (CXS 278-1978); and General Standard for Cheese (CXS 283-1978)

• Revised food-additive sections of six standards for fats and oils, i.e., Standards for Edible Fats and Oils not covered by Individual Standards (CXS 19-1981); Olive Oils and Olive Pomace Oils (CXS 33-1981); Named vegetable oils (CXS 210-1999); Named Animal Fats (CXS 211-1999); Fat Spreads and Blended Spreads (CXS 256-2007); and Fish Oils (CXS 329-2017)

• Revised food-additive sections of three standards for spices and culinary herbs, i.e., Standards for Black, White and Green Peppers (CXS 326-2017); Cumin (CXS 327-2017); and Dried Thyme (CXS 328-2017)

• Amendments to Standards for Bouillons and Consommés (CXS 117-1981) and Wheat Flour (CXS 152-1985) due to alignment of methylate copolymer, basic (INS 1205)

• Inclusion of xanthan gum (INS 415) and pectins (INS 440) in FC 13.1.3 (“Formulae for special medical purposes for infants”) of the GSFA (CXS 192-1995)

The 53rd Session of the CCFA (CCFA53) is scheduled to convene March 27-31, 2023. The CCFA53 agenda is currently unavailable, and we are unable to determine if CCFA53 will recommend adoptions or approvals at CAC46.

The Committee is expected to continue working on:

• New proposed draft food additive provisions of the GSFA

• Technological justification for the use of mono and diglycerides of fatty acids (INS 471) as an antifoaming agent in products for deep frying conforming to the Standard for Named Vegetable Oils (CXS 210-1999) excluding virgin and cold-pressed oils

• Guideline on avoiding future divergence of food additive provisions in the GSFA with commodity standards

• Priority list of substances proposed for evaluation by JECFA

• Discussion paper on the food additive provision for the use of trisodium citrate in FC 01.1.1 “Fluid milk (plain)”

• An administrative review of all adopted food additives provisions in the GSFA for additives with sweetener function but not associated with Note 161

• Discussion paper on mapping Food Categories of the GSFA to the FoodEx2 database

• Discussion paper on the use of certain food additives in wine production

Responsible Agency: HHS/FDA/CFSAN.

U.S. Participation: Yes.

Codex Committee on Food Hygiene

The Codex Committee on Food Hygiene (CCFH) is responsible for developing basic provisions on food hygiene, applicable to all food; considering and amending or endorsing provisions on food hygiene contained in Codex commodity standards and Codex codes of practice developed by other committees; considering specific food hygiene problems assigned to it by the Commission; suggesting and prioritizing areas where there is a need for microbiological risk assessment at the international level and developing questions to be addressed by the risk assessors; and considering microbiological risk management matters in relation to food hygiene and in relation to the FAO/WHO risk assessments.

The 52nd Session of the Committee (CCFH52) met virtually from February 28-March 4, 2022, with report adoption taking place on March 9, 2022. The relevant document is REP 22/FH.

The Committee has the following items that will be considered at the 45th Session of the Commission.

To be considered for final adoption at Step 8 and Step 5/8:

• Draft Guidelines for the Management of Biological Foodborne Outbreaks

• Proposed draft Decision Tree as an annex to the General Principles of Food Hygiene (CXC 1-1969)

The 53rd Session of the CCFH (CCFH53) is scheduled to convene from November 27-December 3, 2022. The CCFH53 agenda is currently unavailable, and we are unable to determine if CCFH53 will recommend adoptions or approvals at CAC46.

The Committee is expected to continue working on:

• Proposed Draft Guidelines for the Control of Shiga Toxin-Producing Escherichia coli (STEC) in Raw Beef, Raw Milk and Raw Milk Cheeses, Fresh Leafy Vegetables, and Sprouts

• Proposed Draft Guidelines for the Safe Use and Reuse of Water in Food Production

• Discussion paper on revision of the Guidelines on the Application of General Principles of Food Hygiene to the Control of Pathogenic Vibrio Species in Seafood (CXG 73-2010)

• Discussion paper on revision of the Guidelines on the Application of General Principles of Food Hygiene to the Control of Viruses in Food (CXG 79-2012)

• New work proposals/forward workplan

Responsible Agencies: HHS/FDA/CFSAN; USDA/FSIS.

U.S. Participation: Yes.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The Committee had the following items which were considered by the 44th Session of the Codex Alimentarius Commission in November 2021.

Adopted at Step 8 or Step 5/8 (final adoption):

• Principles and Guidelines for the Assessment and Use of Voluntary Third-Party Assurance (vTPA) Programmes.

• Guidance on Paperless Use of Electronic Certificates (Revised Guidelines for Design, Production, Issuance and Use of Generic Official Certificates (CXG 38-2001)).

Approved as new work:

• Development of guidance on the prevention and control of food fraud

The 26th Session of the CCFICS is scheduled to convene from May 1-5, 2023. The CCFICS26 agenda is currently unavailable, and we are unable to determine if CCFICS26 will recommend adoptions or approvals at CAC46.

The Committee is expected to continue working on:

• Development of guidance on the prevention and control of food fraud

• Proposed draft guidelines on recognition and maintenance of equivalence of National Food Control Systems (NFCS)

• Proposed draft consolidated Codex guidelines related to equivalence

• Review and update the list of emerging global issues

• Discussion paper on “Use of remote audit and verification in regulatory frameworks”

• Discussion paper on review and update of the Principles for Traceability/Product Tracing as a Tool Within a Food Inspection and Certification System (CXG 60-2006)

Responsible Agencies: USDA/FSIS; HHS/FDA/CFSAN.

U.S. Participation: Yes.

Codex Committee on Food Labelling

The Codex Committee on Food Labelling (CCFL) drafts provisions on labeling applicable to all foods; considers, amends, and endorses draft specific provisions on labeling prepared by the Codex Committees drafting standards, codes of practice, and guidelines; and studies specific labeling problems assigned to it by the Codex Alimentarius Commission. The Committee also studies problems associated with the advertisement of food with particular reference to claims and misleading descriptions.

The 46th Session of the Committee (CCFL46) met virtually from September 27-October 1, 2021, with report adoption taking place on October 7, 2021. The relevant document is REP 21/FL.

The Committee had the following items which were considered by the 44th Session of the Codex Alimentarius Commission in November 2021.

Adopted at Step 8 or Step 5/8 (final adoption):

• Draft General Standard for the Labelling of Non-Retail Containers (CXS 346-2021)

• Proposed Draft Guidelines on Front of Pack Nutrition Labelling (Annex 2 to the Codex Guidelines on Nutrition Labelling (CXG 2-1985))

Approved as new work:

• Discussion paper on guidance on innovation—use of technology in food labeling

The 47th Session of the CCFL (CCFL47) is scheduled to convene from May 15-19, 2023. The CCFL47 agenda is currently unavailable, and we are unable to determine if CCFL47 will recommend adoptions or approvals at CAC46.

The Committee is expected to continue working on:

• Proposed draft Guidelines on Internet Sales/E-Commerce

• Proposed draft revision to the Codex General Standard for the Labelling of Prepackaged Foods (CXS 1-1985): Provisions relevant to allergen labeling and proposed draft guidance on precautionary allergen labeling

• Discussion paper on guidance on innovation—use of technology in food labeling

Responsible Agencies: HHS/FDA/CFSAN; USDA/FSIS.

U.S. Participation: Yes.

Codex Committee on Fresh Fruits and Vegetables

The Codex Committee on Fresh Fruits and Vegetables (CCFFV) is responsible for elaborating worldwide standards and codes of practice, as may be appropriate, for fresh fruits and vegetables, consulting as necessary, with other international organizations in the standards development process to avoid duplication.

The Committee convened its 22nd Session virtually from April 25-29, 2022, with report adoption taking place on May 4, 2022. The relevant document is REP22/FFV.

The Committee has the following items that will be considered by the 45th Session of the Commission.

To be considered for final adoption at Step 5/8:

• Proposed draft standard for onions and shallots

• Proposed draft standard for berry fruits

• Proposed draft standard for fresh dates

To be considered for approval as new work:

• New standard for Castillo lulo

• New standard for fresh curry leaves

• Amendment to existing standard for bananas

In addition, the Committee agreed to the following item for internal use by the Committee:

• Glossary of terms used in the layout for Codex standards for fresh fruits and vegetables

The Committee is expected to continue working on:

• New work proposals

Responsible Agencies: USDA/Agricultural Marketing Service (AMS), HHS/FDA/CFSAN.

U.S. Participation: Yes.

Codex Committee on General Principles

The Codex Committee on General Principles (CCGP) is responsible for procedural and general matters referred to it by the Codex Alimentarius Commission, including: (a) The review or endorsement of procedural provisions/texts forwarded by other subsidiary bodies for inclusion in the Procedural Manual of the Codex Alimentarius Commission; and (b) The consideration and recommendation of other amendments to the Procedural Manual.

The Committee had the following item which was adopted by the 44th Session of the Codex Alimentarius Commission in November 2021.

• Criteria and Procedural Guidelines for Codex Committees and ad hoc Intergovernmental Task Forces Working by Correspondence.

The 33rd Session of the CCGP (CCGP33) is scheduled for October 2-6, 2023, in Bordeaux, France. The Committee is expected to continue discussions on:

• Revisions/amendments to Codex texts

• Format and structure of the Codex Procedural Manual

Responsible Agencies: A member of the Steering Committee heads the delegation to meetings of the General Principles Committee.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex (commodity) committees, except for those methods of analysis and sampling for residues of pesticides or veterinary drugs in food, the assessment of microbiological quality and safety in food, and the assessment of specifications for food additives; elaborates sampling plans and procedures, as may be required; considers specific sampling and analysis problems submitted to it by the Commission or any of its committees; and defines procedures, protocols, guidelines or related texts for the assessment of food laboratory proficiency, as well as quality assurance systems for laboratories.

The Committee had the following items which were considered by the 44th Session of the Codex Alimentarius Commission in November 2021.

Adopted at Step 8 (final adoption):

• Revised Guidelines on Measurement Uncertainty (CXG 54-2004)

Revoked:

• Methods of analysis/performance criteria for certain provisions in Recommended Methods of Analysis and Sampling (CXS 234-1999) as listed in REP21/MAS Appendix II, Part 2

In addition, the Commission adopted:

• Methods of analysis and performance criteria amending certain provisions in Recommended Methods of Analysis and Sampling (CXS 234-1999)

• Editorial amendment to the provision in Section 3.3 of the Standard for Edible Casein Products (CXS 290-1995)

• Methods of analysis for provisions for fats and oils (part 4.3 of REP21/MAS), which had been considered and agreed by the 27th Session of Codex Committee on Fats and Oils (CCFO27).

The 42nd Session of the CCMAS (CCMAS42) is scheduled to convene June 12-16, 2023. The CCMAS42 agenda is currently unavailable, and we are unable to determine if CCMAS42 will recommend adoptions or approvals at CAC46.

The Committee is expected to continue working on:

• Revised General Guidelines on Sampling (CXG 50-2004)

• Amendments to certain provisions in Recommended Methods of Analysis and Sampling (CXS 234-1999)

Responsible Agencies: HHS/FDA/CFSAN; USDA/AMS.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee convened its 42nd Session virtually from November 19-25, 2021, with report adoption taking place on December 1, 2021. The relevant document is REP22/NFSDU.

The Committee has the following item that will be considered by the 45th Session of the Commission.

To be considered for final adoption at Step 8:

• Guidelines for Ready-to-Use Therapeutic Foods (RUTF)

The 43rd Session of the CCNFSDU (CCNFSDU43) is scheduled to convene March 6-10, 2023. The CCNFSDU43 agenda is currently unavailable, and we are unable to determine if CCNFSDU43 will recommend adoptions or approvals at CAC46.

The Committee is expected to continue working on:

• Review of the Standard for Follow-up Formula: Section A & Section B: scope, description, essential composition and labelling; and remaining sections; (CXS 156-1987)

• General Principles for the establishment of Nutrient Reference Values—Requirements (NRVs-R) for persons aged 6-36 months

Responsible Agencies: HHS/FDA/CFSAN; USDA/ARS.

U.S. Participation: Yes.

Codex Committee on Pesticide Residues

The Codex Committee on Pesticide Residues (CCPR) is responsible for establishing maximum residue limits (MRLs) for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The 52nd Session of the Committee (CCPR52) met virtually July 26-August 3, 2021. The relevant document is REP 21/PR.

The Committee had the following items which were considered by the 44th Session of the Codex Alimentarius Commission in November 2021.

Adopted at Step 8 and 5/8 (final adoption):

• 402 MRLs for different pesticide residues

• Revisions of the Classification: Class C: Primary Feed Commodities. Type 11: Primary Feed Commodities of Plant Origin, All Groups

• Revisions of the Classification: Class D: Processed Food Commodities of Plant Origin. All Types and Group

• Revisions of the Classification: Tables 7 and 8 of Principles and Guidelines for the Selection of Representative Commodities for the extrapolation of MRLs for Pesticides to Commodity Group (CXG 84-2012)

The Commission also discontinued work, approved new work, and revoked existing MRLs as recommended by CCPR52.

The 53rd Session of the CCPR (CCPR53) is scheduled to convene virtually from July 4-8, 2022, with report adoption taking place on July 13, 2022. We are unable to determine if CCPR53 will recommend adoptions or approvals at CAC45.

The Committee is expected to continue working on:

• Revision of the Classification of Food and Feed (CXA 4-1989) for selected commodity groups:

○ Revision of Class C, animal feed commodities, taking into account silage, fodder, and a separate group for grasses

○ Revision of Class D, processed food commodities

○ Transferring commodities from Class D to Class C

○ Creating tables with representative crops for Class C and D

○ Edible animal tissues (including edible offal), in collaboration with the Codex Committee on Residues of Veterinary Drugs in Foods (CCRVDF) EWG on edible animal tissues

• Harmonization of mammalian meat MRLs between CCPR and CCRVDF

• Guidelines for compounds of low public health concern that may be exempted from the establishment of Maximum Residue Limits for Pesticides (CXLs) or do not give rise to residues

• Establishment of a Codex database of national registration of pesticides

• Establishment of JMPR schedules and priority lists for evaluations of pesticides

• Guidelines for compounds of low public health concern that could be exempted from the establishment of Codex MRLs for pesticides

• Management of unsupported compounds in the CCPR schedules and priority lists of pesticides for evaluation by the JMPR

• Review of the Guidelines on the use of mass spectrometry for the identification, confirmation, and quantitative determination of pesticide residues (CXG 56-2005) and the Guidelines on performance criteria for methods of analysis for the determination of pesticide residues in food and feed (CXG 90-2017)

• Opportunities and challenges for JMPR participation in international review of a new compound

Responsible Agencies: EPA/Office of Chemical Safety and Pollution Prevention (OCSPP)/Office of Pesticide Programs (OPP); USDA/FSIS.

U.S. Participation: Yes.

Codex Committee on Residues of Veterinary Drugs in Foods

The Codex Committee on Residues of Veterinary Drugs in Foods (CCRVDF) determines priorities for the consideration of residues of veterinary drugs in foods and recommends MRLs for veterinary drugs. The Committee also develops codes of practice, as may be required, and considers methods of sampling and analysis for the determination of veterinary drug residues in food.

The Committee convened its 25th Session virtually from July 12-16, 2021, with report adoption taking place on July 20, 2021. The relevant document is REP21/RVDF.

The Committee had the following items which were considered by the 44th Session of the Codex Alimentarius Commission in November 2021.

Adopted at Step 8 and 5/8 (final adoption):

• MRL for Flumethrin (honey)

• MRL for Diflubenzuron (salmon—muscle plus skin in natural proportion)

• MRL for Halquinol (swine—muscle, skin plus fat, liver and kidney

• Amendment to the Glossary of Terms and Definitions (Residues of Veterinary Drugs in Foods) (CXA 5-1993): Definition of edible offal

The 26th Session of the CCRVDF (CCRVDF26) is scheduled to convene February 13-17, 2023. The CCRVDF26 agenda is currently unavailable, and we are unable to determine if CCRVDF26 will recommend adoptions or approvals at CAC46.

The Committee is expected to continue working on:

• MRLs for ivermectin (sheep, goats, pigs-fat, kidney, liver, and muscle)

• Discussion paper on extrapolation of MRLs to one or more species (including a pilot on extrapolation of MRLs identified in Part D of the Priority List—REP18/RVDF, App. VI)

• Discussion paper on the development of a harmonized definition for edible tissues of animal origin (including edible offal) (in coordination with CCPR)

• Discussion paper on advantages and disadvantages of a parallel approach to compound evaluation

• Database on countries' needs for MRLs

• Priority List of veterinary drugs requiring evaluation or re-evaluation by JECFA

Responsible Agencies: HHS/FDA/Center for Veterinary Medicine (CVM); USDA/FSIS.

U.S. Participation: Yes.

Codex Committee on Spices and Culinary Herbs

The Codex Committee on Spices and Culinary Herbs (CCSCH) is responsible for elaborating worldwide standards for spices and culinary herbs in their dried and dehydrated state in whole, ground, and cracked or crushed form. CCSCH also consults, as necessary, with other international organizations in the standards development process to avoid duplication.

The Committee had the following items which were considered by the 44th Session of the Codex Alimentarius Commission in November 2021.

Adopted at Step 8 (final adoption):

• Standard for dried oregano

• Standard for dried roots, rhizomes and bulbs-dried or dehydrated ginger with the food additive provisions as amended and endorsed by the Codex Committee on Food Additives (CCFA)

• Standard for dried floral parts—dried cloves

• Standard for dried leaves—dried basil

Approved as new work:

• Standard for small cardamom

• Standard for turmeric

• Group standard for spices in the form of dried fruits and berries (all spice, juniper berry, star anise and vanilla)

The 6th Session of the CCSCH is scheduled to convene virtually from September 26-October 10, 2022. The relevant document is CX/SCH 22/6/1. We are unable to determine if CCSCH will recommend adoptions or approvals at CAC45.

The Committee is expected to continue working on:

• Draft Standard for Saffron

• Draft Standard for Dried Seeds—Nutmeg

• Proposed Draft Standard for Dried and/or Dehydrated Chilli Peppers and Paprika

• Proposed Draft Standard for Small Cardamom

• Proposed Draft Standard for Spices in Dried Fruits and Berries (allspices, juniper berry, star anise, and vanilla)

• Proposed Draft Standard for Tumeric

• Consideration of the Proposals for New Work

• Update to the Template for SCH Standards

Responsible Agencies: USDA/AMS; HHS/FDA/CFSAN.

U.S. Participation: Yes.

Ad hoc Codex Intergovernmental Task Force on Antimicrobial Resistance

The Ad hoc Codex Intergovernmental Task Force on Antimicrobial Resistance (TFAMR) was responsible for reviewing and revising, as appropriate, the Code of Practice to Minimize and Contain Antimicrobial Resistance (CAC/RCP 61-2005) to address the entire food chain, in line with the mandate of Codex; and considering the development of Guidance on Integrated Surveillance of Antimicrobial Resistance, taking into account the guidance developed by the WHO Advisory Group on Integrated Surveillance of Antimicrobial Resistance (AGISAR) and relevant World Organization for Animal Health (OIE) documents. The objective of the Task Force was to develop science-based guidance on the management of foodborne antimicrobial resistance, taking full account of the WHO Global Action Plan on Antimicrobial Resistance, in particular Objectives 3 and 4, the work and standards of relevant international organizations, such as FAO, WHO, and OIE, and the One-Health approach, to ensure members have the necessary guidance to enable coherent management of antimicrobial resistance along the food chain. The Task Force was expected to complete this work within three (or a maximum of four) sessions.

The 8th Session of the Task Force met virtually from October 4-16, 2021. The relevant document is REP 21/AMR.

The Committee had the following items which were considered by the 44th Session of the Codex Alimentarius Commission in November 2021.

Adopted at Step 8 and 5/8 (final adoption):

• Code of Practice to Minimize and Contain Antimicrobial Resistance (CXC 61-2005)

• Guidelines on integrated surveillance of antimicrobial resistance (CXG 94-2021)

TFAMR completed its work and fulfilled the mandate given by the CAC, therefore no further meetings are required, and the Task Force was dissolved at the 44th Session of the Commission.

Responsible Agencies: HHS/FDA; USDA/Office of the Chief Scientist.

U.S. Participation: Yes.

Adjourned Codex Commodity Committees

Several Codex Alimentarius Commodity Committees have adjourned sine die. The following Committees fall into this category:

Cereals, Pulses and Legumes—Adjourned Sine Die 2020

Responsible Agency: HHS/FDA/CFSAN.

U.S. Participation: Yes.

Cocoa Products and Chocolate—Adjourned Sine Die 2001

Responsible Agency: HHS/FDA/CFSAN.

U.S. Participation: Yes.

Meat Hygiene—Adjourned Sine Die 2003

Responsible Agency: USDA/FSIS.

U.S. Participation: Yes.

Milk and Milk Products—Adjourned Sine Die 2017

Responsible Agency: USDA/AMS; HHS/FDA/CFSAN.

U.S. Participation: Yes.

Natural Mineral Waters—Adjourned Sine Die 2008

Responsible Agency: HHS/FDA/CFSAN.

U.S. Participation: Yes.

Processed Fruits and Vegetables—Adjourned Sine Die 2020

Responsible Agency: USDA/AMS; HHS/FDA/CFSAN.

U.S. Participation: Yes.

Sugars—Adjourned Sine Die 2019

Responsible Agency: HHS/FDA/CFSAN.

U.S. Participation: Yes.

Vegetable Proteins—Adjourned Sine Die 1989

Responsible Agency: USDA/ARS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to them by the Commission; and promote the use of Codex standards and related texts by members.

There are six regional coordinating committees:

• Coordinating Committee for Africa

• Coordinating Committee for Asia

• Coordinating Committee for Europe

• Coordinating Committee for Latin America and the Caribbean

• Coordinating Committee for the Near East

• Coordinating Committee for North America and the South West Pacific

Coordinating Committee for Africa

The Coordinating Committee for Africa (CCAFRICA) did not meet in 2021. The 24th Session of CCAFRICA is scheduled to convene virtually from September 5-9, 2022, with report adoption taking place on September 13, 2022. The agenda is not yet available, and it is not possible to determine whether any texts will be forwarded for consideration by CAC45.

Responsible Party: USDA/TFAA/USCO.

U.S. Participation: Yes (as an observer).

Coordinating Committee for Asia

The Coordinating Committee for Asia (CCASIA) did not meet in 2021. The 22nd Session of CCASIA is scheduled to convene virtually from October 12-18, 2022, with report adoption on October 21. The agenda is not yet available, and it is not possible to determine whether any texts will be forwarded for consideration by CAC45.

Responsible Party: USDA/TFAA/USCO.

U.S. Participation: Yes (as an observer).

Coordinating Committee for Europe

The Coordinating Committee for Europe (CCEURO) convened its 32nd Session virtually from May 16-18, 2022, with report adoption taking place on May 20, 2022.

The Coordinating Committee discussed the following agenda items:

• Matters arising from the Codex Alimentarius Commission and Codex subsidiary bodies

• Food safety and quality in the region including current and emerging issues—country updates

• Updates on FAO and WHO work of regional interest

• Codex work relevant to the region

• Implementation of the Codex Strategic Plan 2020-2025

• Nomination of the Regional Coordinator

Responsible Party: USDA/TFAA/USCO.

U.S. Participation: Yes (as an observer).

Coordinating Committee for Latin America and the Caribbean

The Coordinating Committee for Latin America and the Caribbean (CCLAC) did not meet in 2021. The 22nd Session of CCLAC is scheduled to convene virtually October 24-28, 2022. The agenda is not yet available, and it is not possible to determine whether any texts will be forwarded for consideration by CAC45.

Responsible Party: USDA/TFAA/USCO.

U.S. Participation: Yes (as an observer).

Coordinating Committee for North America and the South West Pacific

The Coordinating Committee for North America and the South West Pacific (CCNASWP) did not meet in 2021, nor does it plan to in 2022. The 16th Session of the CCNASWP is scheduled to convene from January 30-February 3, 2023. The meeting agenda is not currently available.

The Committee is expected to continue working on:

• Draft regional standard for fermented noni fruit juice

Responsible Party: USDA/TFAA/USCO.

U.S. Participation: Yes.

Coordinating Committee for the Near East

The Coordinating Committee for the Near East (CCNE) did not meet in 2021, nor does it plan to in 2022. The next CCNE meeting is planned for 2023.

Responsible Party: USDA/TFAA/USCO.

U.S. Participation: Yes (as an observer).

Contact Information

U.S. Codex Office, United States Department of Agriculture, Room 4861, 1400 Independence Avenue SW, Washington, DC 20250-3700, Phone: +1 (202) 205-7760, Email: uscodex@usda.gov.

[FR Doc. 2022-14018 Filed 6-29-22; 8:45 am]

BILLING CODE P